INTERNATIONAL TRADE COMMISSION

[Investigation Nos. 701-TA-365-366 and 731-TA-734-735 (Third Review)]

Certain Pasta From Italy and Turkey

Determinations

On the basis of the record ¹ developed in the subject five-year reviews, the United States International Trade Commission (Commission) determines, pursuant to section 751(c) of the Tariff Act of 1930 (19 U.S.C. 1675(c)), that revocation of the countervailing and antidumping duty orders on certain pasta from Italy and Turkey would be likely to lead to continuation or recurrence of material injury to an industry in the United States within a reasonably foreseeable time.²

¹ The record is defined in sec. 207.2(f) of the Commission's Rules of Practice and Procedure (19 CFR 207.2(f)).

² Commissioners David S. Johanson and Meredith M. Broadbent dissenting with respect to imports of certain pasta from Turkey.

Background

The Commission instituted these reviews on September 4, 2012 (77 FR 53909) and determined on December 10, 2012 that it would conduct full reviews (78 FR 959, January 7, 2013). Notice of the scheduling of the Commission's reviews and of a public hearing to be held in connection therewith was given by posting copies of the notice in the Office of the Secretary, U.S. International Trade Commission, Washington, DC, and by publishing the notice in the Federal Register on February 12, 2013 (78 FR 9937). A revised scheduling notice was subsequently published in the Federal Register on March 8, 2013 (78 FR 15046). The hearing was held in Washington, DC, on July 11, 2013, and all persons who requested the opportunity were permitted to appear in person or by counsel.

The Commission transmitted its determinations in these reviews to the Secretary of Commerce on August 30, 2013. The views of the Commission are contained in USITC Publication 4423 (August 2013), entitled Certain Pasta from Italy and Turkey: Investigation Nos. 701-TA-365-366 and 731-TA-734-735 (Third Review).

Issued: September 3, 2013.
By order of the Commission.
Lisa R. Barton,
Acting Secretary to the Commission.

[FR Doc. 2013-21841 Filed 9-6-13; 8:45 am]

BILLING CODE 7020-02-P